DEPARTMENT OF COMMERCE

National Oceanic and Atmospheric Administration

RIN 0648-XZ18

Endangered Species; Permit No. 1578-01; and Permit No. 1595-04

AGENCY: National Marine Fisheries Service (NMFS), National Oceanic and Atmospheric Administration (NOAA), Commerce.

ACTION: Notice; receipt of modification requests.

SUMMARY: Notice is hereby given the following applicants have applied in due form for modifications to permits (Permit Nos. 1578 and 1595-03) to take shortnose sturgeon for purposes of scientific research:

Maine Department of Marine Resources (MDMR) (Gail S. Wippelhauser, Principal Investigator), 21 State House Station, Augusta, ME, 04333 (Permit No. 1578); and Michael M. Hastings, University of Maine, 5717 Corbett Hall, Orono, ME 04469, (Permit No. 1595-03).

DATES: Written, telefaxed, or e-mail comments must be received on or before October 25, 2010.

ADDRESSES: The applications and related documents are available for review by selecting “Records Open for Public Comment” from the Features box on the Applications and Permits for Protected Species (APPS) home page, https://apps.nmfs.noaa.gov/, and then selecting Permit Nos. 1578-01 or 1595-04 from the list of available applications. The documents are available for review upon written request or by appointment in the following offices:

• Permits, Conservation and Education Division, Office of Protected Resources, NMFS,

1315 East-West Highway, Room 13705, Silver Spring, MD 20910; phone (301) 713-2289; fax (301) 713-0376; and

• Northeast Region, NMFS, Protected Resources Division, 55 Great Republic Drive, Gloucester, MA 01930; phone (978)281-9328; fax (978)281-9394.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifiers: Permit No. 1578-01 or Permit No.1595-04.

FOR FURTHER INFORMATION CONTACT: Malcolm Mohead or Colette Cairns, (301) 713-2289.

SUPPLEMENTARY INFORMATION: The subject permit amendments are requested under the authority of the Endangered Species Act of 1973, as amended (ESA; 16 U.S.C. 1531 et seq.), and the regulations governing the taking, importing, and exporting of endangered and threatened species (50 CFR 222-226).

Application to Modify Permit No. 1578

The existing permit authorizes sampling 500 shortnose sturgeon adults and sub-adults annually in the main stem of the Kennebec River between Augusta, ME and Lockwood Dam. Efforts have focused on the location of spawning and foraging habitat, migratory pathways, and effects of river flow on migration and habitat use. The applicant now proposes to document the use of other river systems by sturgeon in the Gulf of Maine (GOM) proposing an increase in numbers of shortnose sturgeon captured from 500 to 600, while also expanding the action area to include: (1) the Kennebec River mouth to Lockwood Dam; (2) the Androscoggin River mouth to Brunswick Dam; (3) the Sheepscot River mouth to Reversing Falls; (4) the Sasanoa River, the Back River, and Sagadahoc Bay; (5) Tottman Cove; and (6) the lower Saco River. New research methods proposed include: use of Floy tags for external identification; endoscopic examination with borescopes to verify sex; blood sampling; gastric lavage for diet analysis; scute sampling for elemental analysis; and electro-narcosis for anesthetization.

Application to Modify Permit No. 1595-03

The objectives of the original research would remain the same for the proposed modification, assessing the distribution, movements, abundance and spawning of shortnose sturgeon in the Penobscot River system. However, the Permit Holder requests an increased number of shortnose sturgeon captured with gill and trammel nets from 200 to 300. Other research activities requested include: (1) lowering the minimum water temperature to 0°C to target sturgeon; (2) using Floy tags; (3) using electro-narcosis for anesthetization; (4) using scute sampling for elemental analysis; (5) using gastric lavage for diet analysis; and (6) using fall (September December) to sample early life stages.

Dated: Septemeber 21, 2010.
Jolie Harrison,
Acting Chief, Permits, Conservation and Education Division, Office of Protected Resources, National Marine Fisheries Service.

[FR Doc. 2010-24036 Filed 9-23-10; 8:45 am]

BILLING CODE 3510-22-S